DEPARTMENT OF THE INTERIOR

Bureau of Land Management

[ES-020-09-1610-DO-015M]

Notice of Intent to Prepare a Resource Management Plan for the Jackson Field Office, Bureau of Land Management-Eastern States and Associated Environmental Impact Statement

AGENCY: Bureau of Land Management, Interior.

ACTION: Notice of intent.

SUMMARY: The Bureau of Land Management—Eastern States (BLM-ES), Jackson Field Office, Jackson, Mississippi, intends to prepare a Resource Management Plan (RMP) with an associated Environmental Impact Statement (EIS) for the Southeastern United States and, by this notice, is announcing public scoping meetings. The RMP will bring all BLM land in the Southeastern United States under a land use plan

DATES: The BLM will announce public scoping meetings to identify relevant issues through local news media, newsletters, and the BLM web site http://www.blm.gov/es/st/en/fo/Jackson_Home_Page.html at least 15 days prior to the first meeting. We will provide formal opportunities for public participation upon publication of the Draft RMP/EIS.

ADDRESSES: You may submit comments by any of the following methods: Web Site: http://www.blm.gov/es/st/en/fo/Jackson_Home_Page.html

• E-mail: Gary_Taylor@blm.gov

• Fax: (601) 977-5440

• Mail: Jackson Field Office, BLM, Attn: Gary Taylor, 411 Briarwood Drive, Suite 404, Jackson, Mississippi 39206.

Documents pertinent to this proposal may be examined at the Jackson Field Office.

FOR FURTHER INFORMATION CONTACT: For further information and/or to have your name added to our mailing list, contact Gary Taylor, telephone (601) 977-5413; or e-mail Gary_Taylor@blm.gov.

SUPPLEMENTARY INFORMATION: This document provides notice that the BLM Field Office, Jackson, Mississippi, intends to prepare a RMP with an associated EIS for the BLM resources located in the Southeastern United States and intends to hold public scoping meetings that will be announced at a later date with public notice prior to those meetings.

The planning area is located in the States of: Florida, Georgia, South Carolina, North Carolina, Virginia, Kentucky, Tennessee, Arkansas, and Louisiana. This planning activity encompasses approximately 2,000,000 acres of public lands and resources. The plan will fulfill the needs and obligations set forth by the National Environmental Policy Act (NEPA), the Federal Land Policy and Management Act (FLPMA), and BLM management policies. The BLM will work collaboratively with interested parties to identify the management decisions that are best suited to local, regional, and national needs and concerns. Coal resources exist in the State of Kentucky. This notice serves as a call for coal reserve information.

The purpose of the public scoping process is to determine relevant issues that will influence the scope of the environmental analysis and EIS alternatives. These issues also guide the planning process. You may submit comments on issues and planning criteria in writing to the BLM at any public scoping meeting, or you may submit them to the BLM using one of the methods listed in the ADDRESSES section above. To be most helpful, you should submit formal scoping comments within 30 days after the last public meeting. The minutes and list of attendees for each scoping meeting will be available to the public and open for 30 days after the meeting to any participant who wishes to clarify the views he or she expressed. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, are available for public inspection in their entirety. Preliminary issues and management concerns have been identified by BLM personnel, other agencies, and in meetings with individuals and user groups. They represent the BLM's knowledge to date regarding the existing issues and concerns with current land management. The major issues that will be addressed in this planning effort include: future management of the Federal resources in the southeast; protection of resources such as wetlands, sensitive species habitat and historic properties while allowing oil and gas development and mining; and management of surface lands within the planning area. Because of the scattered public land ownership pattern and small size of most parcels, land tenure adjustments have the potential to provide greater efficiencies in management and reduce workloads and costs. Some of the lands may be suitable for disposal under a variety of authorities. Some may be retained in public ownership and possibly transferred to other agencies.

After public comments as to what issues the plan should address are gathered, they will be placed in one of three categories:

1. Issues to be resolved in the plan;

2. Issues to be resolved through policy or administrative action; or

3. Issues beyond the scope of this plan.

The BLM will provide an explanation in the plan as to why we placed an issue in category two or three. In addition to these major issues, a number of management questions and concerns will be addressed in the plan. The public is encouraged to help identify these questions and concerns during the scoping phase.

The BLM will use an interdisciplinary approach to develop the plan in order to consider the variety of resource issues and concerns identified. Specialists with expertise in the following disciplines will be involved in the planning process: minerals and geology, outdoor recreation, archaeology, paleontology, wildlife and fisheries, lands and realty, hydrology, soils, sociology and economics.

Dated: October 2, 2008.
Juan Palma,
State Director.

[FR Doc. E8-23803 Filed 10-7-08; 8:45 am]

BILLING CODE 4310-GJ-P